DEPARTMENT OF JUSTICE

Antitrust Division

Notice Pursuant to the National Cooperative Research and Production Act of 1993—Interactive Advertising Bureau

Notice is hereby given that, on September 17, 2004, pursuant to section 6(a) of the National Cooperative Research and Production Act of 1993, 15 U.S.C. 4301 et seq. (“the Act”), the Interactive Advertising Bureau (“IAB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Interactive Advertising Bureau, New York, NY. The nature and scope of IAB's standards development activities are: to develop, promulgate and publish voluntary consensus standards for the Internet Advertising industry, using procedures that incorporate the attributes of openness, balance of interests, due process, and appeals process, and consensus. The IAB sets out to organize the industry to set standards and guidelines that make Interactive an easier medium for agencies and marketers to buy and capture value from advertising.

Dorothy B. Fountain,
Deputy Director of Operations, Antitrust Division.

[FR Doc. 04-23519 Filed 10-20-04; 8:45 am]

BILLING CODE 4410-11-M